COMMODITY FUTURES TRADING COMMISSION

Agency Information Collection Activities: Notice of Intent To Amend Collection 3038-0009, Large Trader Reports

AGENCY: Commodity Futures Trading Commission

ACTION: Notice.

SUMMARY: The Commodity Futures Trading Commission (“the Commission”) is announcing an opportunity for public comment on the proposed collection of certain information by the agency. Under the Paperwork Reduction Act of 1995 (PRA), 44 U.S.C. 3501 et seq., Federal agencies are required to publish notice in the Federal Register concerning each proposed collection of information, and to allow 60 days for comment in response to the notice. This notice solicits comments on requirements relating to information collected to assist the Commission in the prevention of market manipulation.

DATES: Comments must be submitted on or before July 12, 2004.

ADDRESSES: Comments may be mailed to Gary Martinaitis, Division of Market Oversight, U.S. Commodity Futures Trading Commission, 1155 21st Street NW., Washington, DC 20581.

FOR FURTHER INFORMATION CONTACT: Gary Martinaitis, (202) 418-5209; FAX (202) 418-5527; e-mail: gmartinaitis@cftc.gov.

SUPPLEMENTARY INFORMATION: Under the PRA, Federal agencies must obtain approval from the Office of Management and Budget (OMB) for each collection of information they conduct or sponsor. “Collection of information” is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the Commission is publishing notice of the proposed collection of information listed below.

With respect to the following collection of information, the Commission invites comments on:

• Whether the proposed collection of information is necessary for the proper performance of the functions of the Commission, including whether the information will have a practical use;

• The accuracy of the Commission's estimate of the burden of the proposed collection of information, including the validity of the methodology and assumptions used;

• Ways to enhance the quality of, usefulness, and clarity of the information to be collected; and

• Ways to minimize the burden of collection of information on those who are to respond, including through the use of appropriate electronic, mechanical, or other technological collection techniques or other forms of information technology; e.g., permitting electronic submission of responses.

Large Trader Reports, OMB Control No. 3038-0009—Amendment

Parts 15 through 21 of the commission's regulations under the Commodity Exchange Act (Act) require large trader reports from clearing members, futures commission merchants, and foreign brokers and traders. These rules are designed to provide the Commission with information to effectively conduct its market surveillance program, which includes the detection and prevention of price manipulation and enforcement of speculative position limits.

The Commission estimates the burden of the of this collection of information as follows:

Estimated Annual Reporting Burden
Annual number of respondents | Frequency of response | Total annual responses | Hours per response | Total hours
2,950 | Periodically | 63,300 | .29 | 18,592

Dated: May 6, 2004.
Jean A. Webb,
Secretary of the Commission.

[FR Doc. 04-10765 Filed 5-11-04; 8:45 am]

BILLING CODE 6351-01-M